DEPARTMENT OF HEALTH AND HUMAN SERVICES

National Institutes of Health

National Human Genome Research Institute Notice of Meetings

Pursuant to section 10(d) of the Federal Advisory Committee Act, as amended (5 U.S.C. App.), notice is hereby given of meetings of the National Advisory Council for Human Genome Research.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Human Genome Research.

Date: February 10-11, 2014.

Closed: February 10, 2014, 8:00 a.m. to 10:00 a.m.

Agenda: To review and evaluate grant applications and/or proposals.

Place: National Human Genome Research Institute, Terrace Level Conference Room, 5635 Fishers Lane, Rockville, MD 20852.

Open: February 10, 2014, 10:00 a.m. to 3:00 p.m.

Agenda: To discuss matters of program relevance.

Place: National Human Genome Research Institute, Terrace Level Conference Room, 5635 Fishers Lane, Rockville, MD 20852.

Closed: February 10, 2014, 3:00 p.m. to 6:00 p.m.

Agenda: To review and evaluate grant applications and/or proposals.

Place: National Human Genome Research Institute, Terrace Level Conference Room, 5635 Fishers Lane, Rockville, MD 20852.

Closed: February 11, 2014, 8:00 a.m. to 5:00 p.m.

Agenda: To review and evaluate grant applications and/or proposals.

Place: National Human Genome Research Institute, Terrace Level Conference Room, 5635 Fishers Lane, Rockville, MD 20852.

Contact Person: Rudy O. Pozzatti, Ph.D., Scientific Review Officer, Scientific Review Branch, National Human Genome Research Institute, 5635 Fishers Lane, Suite 4076, MSC 9306, Rockville, MD 20852, (301) 402-0838, pozzattr@mail.nih.gov.

Name of Committee: National Advisory Council for Human Genome Research.

Date: May 19-20, 2014.

Closed: May 19, 2014, 8:00 a.m. to 10:00 a.m.

Agenda: To review and evaluate grant applications and/or proposals.

Place: National Human Genome Research Institute, Terrace Level Conference Room, 5635 Fishers Lane, Rockville, MD 20852.

Open: May 19, 2014, 10:00 a.m. to 3:00 p.m.

Agenda: To discuss matters of program relevance.

Place: National Human Genome Research Institute, Terrace Level Conference Room, 5635 Fishers Lane, Rockville, MD 20852.

Closed: May 19, 2014, 3:00 p.m. to 6:00 p.m.

Agenda: To review and evaluate grant applications and/or proposals.

Place: National Human Genome Research Institute, Terrace Level Conference Room, 5635 Fishers Lane, Rockville, MD 20852.

Closed: May 20, 2014, 8:00 a.m. to 5:00 p.m.

Agenda: To review and evaluate grant applications and/or proposals.

Place: National Human Genome Research Institute, Terrace Level Conference Room, 5635 Fishers Lane, Rockville, MD 20852.

Contact Person: Rudy O. Pozzatti, Ph.D., Scientific Review Officer, Scientific Review Branch, National Human Genome Research Institute, 5635 Fishers Lane, Suite 4076, MSC 9306, Rockville, MD 20852, (301) 402-0838, pozzattr@mail.nih.gov.

Any interested person may file written comments with the committee by forwarding the statement to the Contact Person listed on this notice. The statement should include the name, address, telephone number and when applicable, the business or professional affiliation of the interested person.

Information is also available on the Institute's/Center's home page: http://www.genome.gov/11509849, where an agenda and any additional information for the meeting will be posted when available.

(Catalogue of Federal Domestic Assistance Program Nos. 93.172, Human Genome Research, National Institutes of Health, HHS)

Dated: January 13, 2014.
David Clary,
Program Analyst, Office of Federal Advisory Committee Policy.

[FR Doc. 2014-00814 Filed 1-16-14; 8:45 am]

BILLING CODE 4140-01-P